ENVIRONMENTAL PROTECTION AGENCY

[OPP-00657A; FRL-6824-8]

EPA-USDA Committee To Advise on Reassessment and Transition (CARAT); Notice of Public Meeting

AGENCY: Environmental Protection Agency (EPA).

ACTION: Notice.

SUMMARY: EPA-U.S. Department of Agriculture (USDA) Committee to Advise on Reassessment and Transition (CARAT) will hold a public meeting on February 27 and 28, 2002. This meeting will focus on tolerance reassessment for pesticides as required by the Food Quality Protection Act of 1996 and strategic approaches for pest management planning. Included will be a report from the CARAT work group on Cumulative Risk Assessment Public Participation Process for the Organophosphate Pesticides.

DATES: The meeting will be held on Wednesday, February 27, 2002, from 9 a.m. to 5 p.m., and on Thursday, February 28, 2002, from 9 a.m. to 1 p.m.

ADDRESSES: The meeting will be held at the Hilton Crystal City, 2399 Jefferson Davis Highway, Arlington, VA 22202 (703) 418-6800.

FOR FURTHER INFORMATION CONTACT: Margie Fehrenbach, Office of Pesticide Programs (7501C), Environmental Protection Agency, 1200 Pennsylvania Avenue, NW, Washington, DC 20460; telephone number: (703) 308-4775; fax number: (703) 308-4776; e-mail address: fehrenbach.margie@epa.gov.

SUPPLEMENTARY INFORMATION:

I. Does this Action Apply to Me?

This action is directed to the public in general. This action may, however, be of interest to persons who are concerned about implementation of the Food Quality Protection Act (Public Law 104-170). Passed in 1996, this new law strengthens the nation's system for regulating pesticides on food. CARAT is preceded by the Tolerance Reassessment Advisory Committee (TRAC) which was established in 1998, in order for EPA and USDA to work together to ensure smooth implementation of FQPA. Since other entities may also be interested, the Agency has not attempted to describe all the specific entities that may be affected by this action. If you have any questions regarding the applicability of this action to a particular entity, consult the person listed under FOR FURTHER INFORMATION CONTACT.

II. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. To access information about CARAT, go directly to the Home Page for EPA's Office of Pesticide Programs at http://www.epa.gov/pesticides/carat.

2. In person. The Agency has established an administrative record for this meeting under docket control number OPP-00657. The administrative record consists of the documents specifically referenced in this notice, any public comments received during an applicable comment period, and other information related to the CARAT. This administrative record includes the documents that are physically located in the docket, as well as the documents that are referenced in those documents. The public version of the administrative record, which includes printed, paper versions of any electronic comments that may be submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

III. Background

CARAT was established in accordance with the Federal Advisory Committee Act as a subcommittee under the auspices of the EPA National Advisory Council for Environmental Policy and Technology (NACEPT). The purpose of CARAT is to provide advice and counsel to the Administrator of EPA and the Secretary of Agriculture regarding strategic approaches for pest management planning and tolerance reassessment for pesticides as required by the Food Quality Protection Act of 1996 (FQPA). Through CARAT, EPA and USDA are working together to ensure smooth implementation of FPQA through use of sound science, consultation with stakeholders, increased transparency, and reasonable transition for agriculture. CARAT is composed of experts that include farmers, environmental/public interest groups, public health officials, pediatric experts, pesticide trade associations and manufacturers, food processors and distributors, academicians, and tribal, State and local governments.

IV. How Can I Participate in this Meeting?

CARAT meetings and workshops are open to the public under section 10(a)(2) of the Federal Advisory Committee Act, Public Law 92-463. Outside statements by observers are welcome. Oral statements will be limited to 3-5 minutes, and it is preferred that only one person per organization present the statement. Any person who wishes to file a written statement may do so before or after the workshop. These statements will become part of the permanent record and will be available for public inspection at the address under Unit II.2.

List of Subjects

Environmental protection, Pesticides and pests.

Dated: February 7, 2002.
James Jones,
Acting Director, Office of Pesticide Programs.

[FR Doc. 02-3775 Filed 2-14-02; 8:45 am]

BILLING CODE 6560-50-S